DEPARTMENT OF COMMERCE

International Trade Administration

[A-570-890]

Wooden Bedroom Furniture From the People's Republic of China: Rescission of Antidumping Duty New Shipper Review

AGENCY: Import Administration, International Trade Administration, Department of Commerce.

DATES: Effective Date: January 5, 2010.

SUMMARY: In response to a request from Rise Furniture Co., Ltd. (“Rise”), the Department of Commerce (“Department”) initiated a new shipper review of the antidumping duty order on wooden bedroom furniture from the People's Republic of China (“PRC”) covering the period January 1, 2009, through July 30, 2009.¹ On November 10, 2009, Rise withdrew its request for a new shipper review. Accordingly, the Department is rescinding the new shipper review with respect to Rise.

¹ See Wooden Bedroom Furniture from the People's Republic of China: Initiation of Antidumping New Shipper Reviews, 74 FR 43096 (August 26, 2009) (“Initiation Notice”).

FOR FURTHER INFORMATION CONTACT: Howard Smith or Rebecca Pandolph, AD/CVD Operations, Office 4, Import Administration, International Trade Administration, U.S. Department of Commerce, 14th Street and Constitution Avenue, NW., Washington, DC 20230; telephone: (202) 482-5193 or (202) 482-3627, respectively.

SUPPLEMENTARY INFORMATION:

Background

On July 31, 2009, the Department received a timely request from Rise in accordance with section 751(a)(2)(b)(i) of the Tariff Act of 1930, as amended (the “Act”), and 19 CFR 351.214(b)(1) for a new shipper review of the antidumping duty order on wooden bedroom furniture from the PRC. On August 26, 2009, the Department found that the request for a new shipper review of Rise met all of the regulatory requirements set forth in 19 CFR 351.214(b)(2) and initiated the requested antidumping duty new shipper review.² On November 10, 2009, Rise submitted a letter to the Department in which it stated that it was withdrawing from participation in the new shipper review.³ On November 24, 2009, Rise submitted a letter stating that its November 10, 2009, letter was not entirely clear and that it desires to “withdraw its request and have the review terminated.” ⁴

² See Initiation Notice.

³ See letter from Rise regarding, “Withdrawal from Participation in Proceedings: Wooden Bedroom Furniture From the People's Republic of China” (November 10, 2009).

⁴ See letter from Rise regarding, “Wooden Bedroom Furniture from the People's Republic of China: Rise Furniture Clarification Regarding Withdrawal of Review” (November 24, 2009).

Rescission of New Shipper Review

Section 351.214(f)(1) of the Department's regulations provides that the Department may rescind a new shipper review if the party that requested the review withdraws its request for review within 60 days of the date of publication of the notice of initiation of the requested review. Although Rise withdrew its request for review after the 60-day deadline, the Department finds it reasonable to extend the deadline because it has not yet committed significant resources to the new shipper review of Rise. Specifically, the Department has not completed a full analysis of Rise's sales or factors of production data for the period of review nor has it calculated a preliminary margin for Rise. On December 4, 2009, the Department notified interested parties of its intent to rescind the new shipper review of Rise and provided parties with an opportunity to comment on the rescission.⁵ The Department received no comments. Based upon the above, the Department is rescinding the new shipper review of the antidumping duty order on wooden bedroom furniture from the PRC with respect to Rise. As the Department is rescinding the new shipper review of Rise, it is not calculating a company-specific rate for Rise, and Rise will remain part of the PRC-wide entity.

⁵ See letter to all interested parties regarding, “Wooden Bedroom Furniture from the People's Republic of China: 2009 New Shipper Review of Rise Furniture Co., Ltd.” (December 4, 2009).

Assessment

The Department will not order liquidation of the 2009 entries of Rise's merchandise at this time because the deadline for requesting an administrative review of these entries has not passed.

Cash Deposit

The Department will notify U.S. Customs and Border Protection (“CBP”) that bonding is no longer permitted to fulfill security requirements for subject merchandise produced and exported by Rise that is entered, or withdrawn from warehouse, for consumption in the United States on or after the publication of this rescission notice in the Federal Register. In addition, the Department will notify CBP that a cash deposit of 216.01 percent ad valorem should be collected for any entries of subject merchandise exported by Rise.

Notification to Interested Parties

This notice serves as the only reminder to parties subject to administrative protective order (“APO”) of their responsibility concerning the return or destruction of proprietary information disclosed under APO in accordance with 19 CFR 351.305(a). Timely written notification of the return/destruction of APO materials or conversion to judicial protective order is hereby requested. Failure to comply with the regulations and terms of an APO is a violation which is subject to sanction.

We are issuing and publishing this rescission and notice in accordance with section 777(i) of the Act and 19 CFR 351.214(f)(3).

Dated: December 29, 2009.
Susan Kuhbach,
Acting Deputy Assistant Secretary for Antidumping and Countervailing Duty Operations.

[FR Doc. E9-31303 Filed 1-4-10; 8:45 am]

BILLING CODE 3510-DS-P